DEPARTMENT OF DEFENSE

Office of the Secretary

32 CFR Part 199

RIN 0720-AA49

Civilian Health and Medical Program of the Uniformed Service (CHAMPUS); Prosthetic Devices

AGENCY: Office of the Secretary, DoD.

ACTION: Final rule.

SUMMARY: This final rule implements Section 702 of the National Defense Authorization Act for Fiscal Year 1998, which authorizes purchase of prosthetic devices, as determined by the Secretary of Defense, to be necessary because of significant conditions resulting from trauma, congenital anomalies, or disease. The Act changes the existing limited provisions for prosthetic devices, expanding coverage to include the cost sharing of other prostheses, e.g., noses, ears and fingers.

DATES: This rule is effective May 20, 1999.

ADDRESSES: The Office of TRICARE Management Activity, 16401 East Centretech Parkway, Aurora, CO 80011-9043.

FOR FURTHER INFORMATION CONTACT: Margaret Brown, Office of Medical Benefits and Reimbursement Systems, telephone (303) 676-3581.

SUPPLEMENTARY INFORMATION: This final rule implements section 702 of the National Defense Authorization Act for Fiscal Year 1998 (Pub. L. 105-85) to provide purchase of prosthetic devices, as determined by the Secretary of Defense, to be necessary because of significant conditions resulting from trauma, congenital anomalies, or disease. The current policy is restrictive as it limits purchase of prosthetic devices to artificial limbs, eyes, and voice prostheses. This final rule expands provisions for prosthetic devices to include ears, noses and fingers. It is being published to confirm that the interim final rule, which was published August 20, 1999, is adopted as a final rule without change.

Comments Received

It was recommended that we remove the parenthetical phrase (See House Conference Report 103, 340, p. 300) from Regulatory Procedures. Comments were adopted and the deletion was made.

Regulatory Procedure

Executive order 12866 requires certain regulatory assessments for any significant regulatory action defined as one which would result in an annual effect on the economy of $100 million or more, or have other substantial impacts. The Regulatory Flexibility Act (RFA) requires that each Federal agency prepare, and make available for public comment, a regulatory flexibility analysis when the agency issues a regulation which would have a significant impact on a substantial number of small entities. This final rule is not a significant regulatory action under E.O. 12886, nor would it have a significant impact on small entities. The changes set forth in the final rule are minor revisions to the existing regulation.

Regulatory Planning and Review

The final rule will not impose additional information collection requirements on the public under the Paperwork Reduction Act of 1995 (44 U.S.C. 3501-3511). This rule is being issued to confirm that the interim rule published August 20, 1999 (64 FR 45453) is final and does not include further amendments.

List of Subject in 32 CFR Part 199

Claims, Handicapped, Health insurance, Individuals with disabilities, Military personnel.

Accordingly, the interim rule amending 32 CFR 199, as published August 20, 1999, is adopted as a final rule without change as follows:

PART 199—[AMENDED]

1. The authority citation for part 199 continues to read as follows:

Authority: 5 U.S.C. 301; and 10 U.S.C. Chapter 55.

2. Section 199.4 is amended by revising paragraph (d)(3)(vii) and (g)(48) to read as follows:

§ 199.4 Basic program benefits.

* * * * *

(d) * * *

(3) * * *

(vii) Prosthetic devices. The purchase of prosthetic devices is limited to those determined by the Director, OCHAMPUS to be necessary because of significant conditions resulting from trauma, congenital anomalies, or disease.

(g) * * *

(48) Prosthetic devices. Prostheses other than those determined by the Director, OCHAMPUS to be necessary because of significant conditions resulting from trauma, congenital anomalies, or disease. All dental prostheses are excluded, except for those specifically required in connection with otherwise covered orthodontia directly related to the surgical correction of a cleft palate anomaly.

* * * * *

Dated: September 18, 2000.
L.M. Bynum,
Alternate OSD Federal Register Liaison Officer, Department of Defense.

[FR Doc. 00-24495 Filed 9-27-00; 8:45 am]

BILLING CODE 5001-10-M